DEPARTMENT OF TRANSPORTATION

Maritime Administration

[Docket No. DOT-MARAD-2015-0011]

Agency Requests for Renewal of a Previously Approved Information Collection(s): U.S. Merchant Marine Academy Candidate Application for Admission.

AGENCY: Maritime Administration, DOT.

ACTION: Notice and request for comments

SUMMARY: The Maritime Administration (MARAD) invites public comments about our intention to request the Office of Management and Budget (OMB) approval to renew an information collection. We are required to publish this notice in the Federal Register by the Paperwork Reduction Act of 1995, Public Law 104-13.

DATES: Written comments should be submitted by April 20, 2015.

ADDRESSES: You may submit comments [identified by Docket No. DOT-MARAD-2015-0011] through one of the following methods:

• Federal eRulemaking Portal: http://www.regulations.gov. Follow the online instructions for submitting comments.

• Fax: 1-202-493-2251

• Mail or Hand Delivery: Docket Management Facility, U.S. Department of Transportation, 1200 New Jersey Avenue SE, West Building, Room W12-140, Washington, DC 20590, between 9 a.m. and 5 p.m., Monday through Friday, except on Federal holidays.

FOR FURTHER INFORMATION CONTACT: Office of Admission, 516-726-5646, Maritime Administration, U.S. Merchant Marine Academy, Office of Admissions, 300 Steamboat Road, New York, NY 11024. Copies of this collection also can be obtained from that office.

SUPPLEMENTARY INFORMATION: OMB Control Number: 2133-0010.

Title: U.S. Merchant Marine Academy Candidate Application for Admission.

Form Numbers: KP 2-65.

Type of Review: Renewal of an information collection.

Background: The collection consists of Parts I, II, and III of Form KP 2-65 (U.S. Merchant Marine Academy Application for Admission). Part I of the form is completed by individuals wishing to be admitted as students to the U.S. Merchant Marine Academy. The information on the Candidate Application Parts II and III is used by the USMMA admissions staff and its Candidate Evaluation Board to select the best qualified candidates for the Academy. Part II is completed by the applicant and Part III by an official at the secondary school where the applicant attends or has attended.

Respondents: Individuals desiring to become students at the U.S. Merchant Marine Academy.

Number of Respondents: 2500.

Frequency: Once.

Number of Responses: 2500.

Total Annual Burden: 25,000 Hours.

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:93.

Dated: February 3, 2015.
Christine Gurland,
Acting Secretary, Maritime Administration.

[FR Doc. 2015-03377 Filed 2-17-15; 8:45 am]

BILLING CODE 4910-81-P